DEPARTMENT OF THE INTERIOR

Fish and Wildlife Service

Issuance of Permit for Marine Mammals

On September 21, 2000, a notice was published in the Federal Register, Vol. 64, No. 184, Page 57205, that an application had been filed with the Fish and Wildlife Service by Larry Martin for a permit (PRT-032405) to import one polar bear (Ursus maritimus) trophy taken from the M'Clintock Channel population, Canada for personal use.

Notice is hereby given that on November 14, 2000, as authorized by the provisions of the Marine Mammal Protection Act of 1972, as amended (16 U.S.C. 1361 et seq.), the Fish and Wildlife Service authorized the requested permit subject to certain conditions set forth therein.

On October 4, 2000, a notice was published in the Federal Register, Vol. 65, No. 193, Page 59197, that an application had been filed with the Fish and Wildlife Service by Chicago Zoological Society, Brookfield, IL, for a permit (PRT-032510) to import one captive born polar bear (Ursus maritimus) from the Jardin Zoo, Quebec, Canada for the purposes of public display and conservation education.

Notice is hereby given that on November 24, 2000, as authorized by the provisions of the Marine Mammal Protection Act of 1972, as amended (16 U.S.C. 1361 et seq.), the Fish and Wildlife Service authorized the requested permit subject to certain conditions set forth therein.

Documents and other information submitted for these applications are available for review by any party who submits a written request to the U.S. Fish and Wildlife Service, Division of Management Authority, 4401 North Fairfax Drive, Rm. 700, Arlington, Virginia 22203. Phone (703) 358-2104 or Fax (703) 358-2281.

Dated: December 1, 2000.
Charlie R. Chandler,
Chief, Branch of Permits, Division of Management Authority.

[FR Doc. 00-31223 Filed 12-6-00; 8:45 am]

BILLING CODE 4310-55-P